DEPARTMENT OF DEFENSE

Office of the Secretary

TRICARE; Calendar Year 2016 TRICARE Young Adult Program Premium Update

AGENCY: Office of the Secretary of Defense, Department of Defense.

ACTION: Notice of updated TRICARE Young Adult premiums for calendar year 2016.

SUMMARY: This notice provides the updated TRICARE Young Adult program premiums for Calendar Year (CY) 2016.

DATES: The CY 2016 rates contained in this notice are effective for services on or after January 1, 2016.

ADDRESSES: Defense Health Agency, TRICARE Health Plan, 7700 Arlington Boulevard, Suite 5101, Falls Church, Virginia 22042-5101.

FOR FURTHER INFORMATION CONTACT: Mr. Mark A. Ellis, (703) 681-0039.

SUPPLEMENTARY INFORMATION: The final rule published in the Federal Register (FR) on May 29, 2013 (78 FR 32116-32121) sets forth rules to implement the TRICARE Young Adult (TYA) program as required by Title 10, United States Code, Section 1110b. Included in the final rule were provisions for updating the TYA premiums for each CY. By law, qualified young adult dependents are charged TYA premiums that represent the full government cost of providing such coverage.

The Defense Health Agency has updated the monthly premiums for CY 2016 as shown below:

Monthly TYA Premiums for CY 2016
Type of coverage | Monthly rate
TRICARE Standard Plans | $228
TRICARE Prime Plans | 306

The above premiums are effective for services rendered on or after January 1, 2016.

Dated: October 27, 2015.
Aaron Siegel,
Alternate OSD Federal Register Liaison Officer, Department of Defense.

[FR Doc. 2015-27711 Filed 10-29-15; 8:45 am]

BILLING CODE 5001-06-P